DEPARTMENT OF JUSTICE

Antitrust Division

Notice Pursuant to the National Cooperative Research and Production Act Of 1993—Cooperative Research Group on Advanced Fluids for Electrified Vehicles

Notice is hereby given that, on June 16, 2021, pursuant to Section 6(a) of the National Cooperative Research and Production Act of 1993, 15 U.S.C. 4301 et seq. (“the Act”), Cooperative Research Group on Advanced Fluids for Electrified Vehicles (“AFEV”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Chevron Oronite Company LLC, San Roman, CA; Afton Chemical Corporation, Richmond, VA; Dana Limited, Maumee, OH; Lanxess Corporation, Pittsburgh, PA; Croda Europe Ltd., Cowick, UNITED KINGDOM; Infineum USA L.P., Linden, NJ; and GS Caltex Corporation, Seoul, SOUTH KOREA. The general area of AFEV's planned activity is to better understand the unique stressors placed on electric vehicle fluids which will enable development and optimization of electric vehicle powertrains.

Suzanne Morris,
Chief, Premerger and Division Statistics, Antitrust Division.

[FR Doc. 2021-17518 Filed 8-13-21; 8:45 am]

BILLING CODE P